DEPARTMENT OF COMMERCE

Foreign-Trade Zones Board

[Order No. 2141]

Reorganization and Expansion of Foreign-Trade Zone 39 Under Alternative Site Framework; Dallas/Fort Worth, Texas

Pursuant to its authority under the Foreign-Trade Zones Act of June 18, 1934, as amended (19 U.S.C. 81a-81u), the Foreign-Trade Zones Board (the Board) adopts the following Order:

Whereas, the Foreign-Trade Zones (FTZ) Act provides for “. . . the establishment . . . of foreign-trade zones in ports of entry of the United States, to expedite and encourage foreign commerce, and for other purposes,” and authorizes the Board to grant to qualified corporations the privilege of establishing foreign-trade zones in or adjacent to U.S. Customs and Border Protection ports of entry;

Whereas, the Board adopted the alternative site framework (ASF) (15 CFR sec. 400.2(c)) as an option for the establishment or reorganization of zones;

Whereas, the Dallas/Fort Worth International Airport Board, grantee of Foreign-Trade Zone 39, submitted an application to the Board (FTZ Docket B-51-2022, docketed November 15, 2022) for authority to expand the service area of the zone to include Hill County, Texas, as described in the application, adjacent to the Dallas/Fort Worth Customs and Border Protection port of entry, and to include a usage-driven site (Site 34) in Hill County;

Whereas, notice inviting public comment was given in the Federal Register (87 FR 70779, November 21, 2022) and the application has been processed pursuant to the FTZ Act and the Board's regulations; and,

Whereas, the Board adopts the findings and recommendations of the examiner's report, and finds that the requirements of the FTZ Act and the Board's regulations are satisfied;

Now, therefore, the Board hereby orders:

The application to reorganize and expand FTZ 39 under the ASF is approved, subject to the FTZ Act and the Board's regulations, including Section 400.13, to the Board's standard 2,000-acre activation limit for the zone, and to an ASF sunset provision for usage-driven sites that would terminate authority for Site 34 if no foreign-status merchandise is admitted for a bona fide customs purpose within three years from the month of approval.

Dated: March 28, 2023.
Lisa W. Wang,
Assistant Secretary for Enforcement and Compliance, Alternate Chairman, Foreign-Trade Zones Board.

[FR Doc. 2023-06705 Filed 3-30-23; 8:45 am]

BILLING CODE 3510-DS-P